ENVIRONMENTAL PROTECTION AGENCY

[FRL-8567-6]

Meeting of the National Drinking Water Advisory Council—Notice of Public Meeting

AGENCY: Environmental Protection Agency (EPA).

ACTION: Notice.

SUMMARY: Under Section 10(a)(2) of Public Law 92-423, “The Federal Advisory Committee Act,” notice is hereby given of a meeting of the National Drinking Water Advisory Council (NDWAC), established under the Safe Drinking Water Act, as amended (42 U.S.C. 300f et seq.). The Council will consider various issues associated with drinking water and adaptation to climate change, including information about the EPA Office of Water's draft National Water Program Strategy: Response to Climate Change. The Council will receive updates about several on-going projects including the third Contaminant Candidate List, the Aircraft Drinking Water Rule, and the Total Coliform Rule/Distribution System Federal Advisory Committee. EPA will also consult with the Council on the upcoming rule-making for the geologic sequestration of carbon dioxide.

DATES: The Council meeting will be held on June 3, 2008, from 8:30 a.m. to 5:30 p.m., and June 4, 2008, from 8:30 a.m. to noon, Mountain time.

ADDRESSES: The meeting will be held in Tucson, Arizona. Information about the location will be made available in the near future on EPA's Web site at http://www.epa.gov/safewater/ndwac/.

FOR FURTHER INFORMATION CONTACT: Members of the public who would like to attend the meeting, present an oral statement, or submit a written statement, should contact Veronica Blette, by e-mail at: blette.veronica@epa.gov, by phone, 202-564-4094, or by regular mail at the U.S. Environmental Protection Agency, Office of Ground Water and Drinking Water (MC 4601M), 1200 Pennsylvania Avenue, NW., Washington, DC 20460.

SUPPLEMENTARY INFORMATION: The meeting is open to the public. The Council encourages the public's input and will allocate one hour (3:30 p.m.-4:30 p.m.) on June 3, 2008, for this purpose. Oral statements will be limited to five minutes. It is preferred that only one person present the statement on behalf of a group or organization. To ensure adequate time for public involvement, individuals or organizations interested in presenting an oral statement should notify Veronica Blette by telephone at 202-564-4094 no later than May 23, 2008. Any person who wishes to file a written statement can do so before or after a Council meeting. Written statements received by May 23, 2008, will be distributed to all members of the Council before any final discussion or vote is completed. Any statements received after May 23, 2008, will become part of the permanent meeting file and will be forwarded to the Council members for their information.

Special Accommodations

For information on access or services for individuals with disabilities, please contact Veronica Blette at 202-564-4094 or by e-mail at blette.veronica@epa.gov. To request accommodation of a disability, please contact Veronica Blette, preferably at least 10 days prior to the meeting to give EPA as much time as possible to process your request.

Dated: May 14, 2008.
Cynthia C. Dougherty,
Director, Office of Ground Water and Drinking Water.

[FR Doc. E8-11133 Filed 5-16-08; 8:45 am]

BILLING CODE 6560-50-P